DEPARTMENT OF HEALTH AND HUMAN SERVICES

Centers for Disease Control and Prevention

[60Day-06-06BC]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Seleda Perryman, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

National Survey of the Mining Population-New-National Institute for Occupational Safety and Health (NIOSH), Centers for Disease Control and Prevention (CDC).

Background and Brief Description

Surveillance of occupational injuries, illnesses, and exposures has been an integral part of the work of the National Institute for Occupational Safety and Health (NIOSH) since its creation by the Occupational Safety and Health Act in 1970. To improve its surveillance capability related to occupational risks in mining, NIOSH is planning to conduct a national survey of mines and mine employees. No national surveys have specifically targeted the mining labor force since the 1986 Mining Industry Population Survey (MIPS). The mining industry has experienced many changes in the last 20 years; consequently, the MIPS data are no longer representative of the current mining industry labor force.

NIOSH conducted a pilot study for the proposed national survey in the fall of 2004 (OMB No. 0920-0633, Exp. Date 3/31/2005). The pilot study was designed to emulate the main study design in order to evaluate the effectiveness of the recruitment materials, questionnaire, and survey procedures in acquiring complete, high quality data from a sample of 45 mining operations. Objective data collected in the pilot study included overall response rates and individual item response rates. Subjective data were collected using telephone logs, and participant and non-participant debriefing interviews. Data captured in the pilot study were used to guide improvements to maximize the performance of the various components of the full-scale study.

The proposed national survey will be based upon a probability sample of mining operations and their employees. The survey will be conducted in the five major mining sectors (coal, metal, nonmetal, stone, and sand and gravel). The major objectives of the survey will be to: (1) Obtain denominator data so that mine accident, injury, and illness reports can be evaluated in relation to the population at risk; (2) understand the demographic and occupational characteristics of the mining industry workforce; (3) estimate the number and occupational characteristics of independent contractor employees used by mining operations; and (4) obtain mine level information on selected variables. The sampled mining operations will provide all survey data; individual mine operator and independent contractor employees will not be directly surveyed. As a result of this study, surveillance researchers and government agencies will be able to identify groups of miners with a disproportionately high risk of injury or illness. By capturing demographic (e.g., age, gender, race/ethnicity, education level) and occupational (e.g., job title, work location, work experience) characteristics of the mining workforce, these data will be a significant resource for the customization of interventions such as safety training programs.

The target population of mines for this survey will be limited to mines in current operation and producing the commodity for which they were sampled. Separate sampling frames, stratified by underground and surface work location (with the exception of sand and gravel mines), and employment size will be developed for each major mining sector. Approximately 722 coal mines, 212 metal mines, 327 nonmetal mines, 572 stone mines, and 439 sand and gravel mines will be sampled for the study. It is expected that this will yield 1,648 responding eligible mines, reporting data for approximately 24,452 employees. A survey packet will be mailed to each sampled mine. The mining operation will not be asked to report the names or any other identifying information for their employees. The survey respondent will have the option of completing either the survey questionnaire booklet or an Internet Web-based survey questionnaire.

The ultimate goal of the study is to provide surveillance data that will help to minimize and prevent work-related injuries and illnesses that harm miners and reduce productivity. NIOSH will use the information to calculate injury rates and customize safety and health interventions for various mining occupations. Once the study is completed, NIOSH will send a copy of the final report to each sampled mining operation. NIOSH expects to complete data collection no later than the Spring of 2007. There is no cost to respondents other than their time.

Estimated Annualized Burden Table
Respondents | Number of respondents | Number of responses per respondent | Average burden per response (in hours) | Total burden hours
Responding Eligible Mining Operations | 1,648 | 1 | 2 | 3,296

Dated: March 29, 2006.
Betsey Dunaway,
Acting Reports Clearance Officer, Centers for Disease Control and Prevention.

[FR Doc. E6-4826 Filed 4-3-06; 8:45 am]

BILLING CODE 4163-18-P